DEPARTMENT OF THE INTERIOR

Bureau of Land Management

[WO-220-1020-PB-24 1A]

Information Collection Submitted to the Office of Management and Budget Under the Paperwork Reduction Act

The Bureau of Land Management (BLM) has submitted the proposed collection of information listed below to the Office of Management and Budget (OMB) for approval under the provisions of the Paperwork Reduction Act (44 U.S.C. 3501 et seq.). On July 31, 2001, the BLM published a notice in the Federal Register (66 FR 39526) requesting comments on this proposed collection. The comment period ended on October 1, 2001. The BLM received no comments from the public in response to that notice. You may obtain copies of the proposed collection of information and related forms and explanatory material by contacting the BLM Information Collection Clearance Officer at the telephone number listed below.

The OMB is required to respond to this request within 60 days but may respond after 30 days. For maximum consideration your comments and suggestions on the requirement should be made within 30 days directly to the Office of Management and Budget, Interior Department Desk officer (1004-0041), Office of Information and Regulatory Affairs, Washington, DC 20503. Please provide a copy of your comments to the Bureau Information Collection Clearance Officer (WO-630), 1849 C St., NW., Mail Stop 401 LS, Washington, DC 20240.

Nature of Comments: We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated, electronic, mechanical, or other forms of information technology.

Title: Automated Grazing Application (formerly Grazing Preference Statement) (43 CFR 4130).

OMB Approval Number: 1004-0041.

Bureau Form Number: 4130-3a.

Abstract: The Bureau of Land Management uses the information to provide the opportunity for grazing operators to apply for changes to the grazing schedules in their BLM authorized grazing leases or permits. Also, BLM uses the information to compute grazing fee bills and to determine whether lessees and permittees are complying with the terms and conditions of their leases or permits.

Frequency: annually.

Description of Respondents: Holders of BLM-issued grazing leases and permits.

Estimated Completion Time: Varies from 5 to 30 minutes, with an average of 14 minutes.

Annual Responses: 7,689.

Application Fee Per Response: 0. There is no filing fee.

Annual Burden Hours: 1,794.

Bureau Clearance Officer: Michael Schwartz, (202) 452-5033.

Dated: December 11, 2001.
Michael H. Schwartz,
BLM Information Collection Clearance Officer.

[FR Doc. 01-31934 Filed 12-27-01; 8:45 am]

BILLING CODE 4310-84-M